OVERSEAS PRIVATE INVESTMENT CORPORATION

Submission for OMB Review; Comment Request

AGENCY: Overseas Private Investment Corporation, IDCA.

ACTION: Request for comments.

SUMMARY: Under the provisions of the Paperwork Reduction Act (44 U.S.C. Chapter 35), agencies are required to publish a Notice of the Federal Register notifying the public that the Agency is preparing an information collection request for Office of Management and Budget (OMB) review and approval and to request public review and comment on the submission. Comments are being solicited on the need for the information, its practical utility, the accuracy of the Agency's burden estimate, and on ways to minimize the reporting burden, including automated collection techniques and uses of other forms of technology. The proposed information collection request under review is summarized below.

DATES: Comments must be received on or before December 26, 2000.

ADDRESSES: Copies of the survey questions and the request for review prepared for submission to OMB may be obtained from the Agency Submitting Officer. Comments on the form should be submitted to the Agency Submitting Officer.

FOR FURTHER INFORMATION CONTACT:

OPIC Agency Submitting Officer: Carol Brock, Records Manager, Overseas Private Investment Corporation, 1100 New York Avenue, NW., Washington, DC 20527, telephone (202) 336-8563.

Summary of Form Under Review

Type of Request: New information collection.

Title: Political Risk Insurance Survey.

Form Number: OPIC 233.

Frequency of Use: Once per client.

Type of Respondents: Individual business officer representatives of business institutions.

Standard Industrial Classification Codes: All.

Description of Affected Public: U.S. companies or citizens investing overseas.

Reporting Hours: 1 hour per client.

Number of Responses: 480.

Federal Cost: $0.

Authority for Information Collection: Section 234A, of the Foreign Assistance Act of 1961, as amended.

Abstract (Needs and Uses): OPIC is sponsoring a survey to identify trends relating to its clients' experiences with political risk in emerging markets. The survey results will not only help OPIC identify new products and opportunities to fulfill its mandate to insure investments overseas against a broad range of political risks, but will also provide valuable information to the political risk insurance industry, thereby helping the industry to enhance its programs.

Dated: October 18, 2000.
Rumu Sarkar,
Assistant General Counsel, Department of Legal Affairs.

[FR Doc. 00-27241 Filed 10-23-00; 8:45 am]

BILLING CODE 3210-01-M